FEDERAL COMMUNICATIONS COMMISSION

Notice of Public Information Collection(s) Being Reviewed by the Federal Communications Commission for Extension Under Delegated Authority

October 21, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 3, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION: OMB Control No.: 3060-1035.

Title: Part 73, Subpart F—International Broadcast Stations.

Form Nos.: FCC Forms 309, 310 and 311.

Type of Review: Extension of a currently approved collection.

Respondents: Business or other for-profit.

Number of Respondents: 24.

Estimated Time Per Response: 0.5-10 hours.

Frequency of Response: On occasion, annual, semi-annual, and one time reporting requirements, and recordkeeping requirement.

Total Annual Burden: 684 hours.

Total Annual Cost: $42,970.

Privacy Act Impact Assessment: N/A.

Needs and Uses: This information collection is used by the Federal Communications Commission (“Commission”) to assign frequencies for use by international broadcast stations, to grant authority to operate such stations, and to determine if interference or adverse propagation conditions exist that may impact the operation of such stations. The Commission collects this information pursuant to 47 CFR Part 73, Subpart F. If the Commission did not collect this information, it would not be in a position to effectively coordinate spectrum for international broadcasters or to act for entities in times of frequency interference or adverse propagation conditions. The orderly nature of the provision of international broadcast service would be in jeopardy without the Commission's involvement.

On June 26, 2003, the Commission's International Bureau published a notice in the Federal Register (68 FR 38041) to propose creation of three new forms: (1) Application for Authority to Construct or Make Changes in an International Broadcast Station (FCC Form 420-IB) approved by OMB under OMB Control Number 3060-1057; (2) Application for an International Broadcast Station License (FCC Form 421-IB) approved by OMB under OMB Control Number 3060-1056; and (3) Application for Renewal of an International Broadcast Station License (FCC Form 422-IB) approved by OMB under OMB Control Number 3060-1054. The International Bureau proposed that after the new applications were developed, international broadcasters would file the FCC Form 420-IB in lieu of the FCC Form 309. Furthermore, international broadcasters would file the FCC Form 421-IB in lieu of the FCC Form 310. Additionally, international broadcasters would file the FCC Form 422-IB in lieu of the FCC Form 311. Experimental broadcasters would continue to file the FCC Forms 309, 310 and 311 with the Commission. However, the development of the proposed new applications FCC Forms 420-IB, 421-IB, and 422-IB has been postponed indefinitely due to lack of agency funding. International broadcasters will continue to file the FCC Forms 309, 310, and 311 with the Commission until further notice. After the new applications have been developed by the International Bureau, the Commission will issue a Public Notice announcing the availability of the new applications.

OMB Control No.: 3060-0751.

Title: Reports Concerning International Private Lines Interconnected to the U.S. Public Switched Network.

Form No.: N/A.

Type of Review: Extension of a currently approved collection.

Respondents: Business or other for-profit.

Number of Respondents: 10.

Estimated Time Per Response: 8 hours.

Frequency of Response: Annual reporting requirement.

Total Annual Burden: 80 hours.

Total Annual Cost: N/A.

Privacy Act Impact Assessment: N/A.

Needs and Uses: The Commission determined that the authorized resale of international private lines interconnected to the U.S. pubic switched network would tend to divert international message telephone service (IMTS) traffic from the settlements process and increase the U.S. net settlements deficit. The purpose of this information collection is to review the impact, if any, that end-user private line interconnections have on the U.S. international settlements policy. The data will also enhance the ability of both the Commission and interested parties to monitor for unauthorized resale of international private lines that are interconnected to the U.S. public switched network. Without the collection of this information, the Commission would not be able to monitor the impact that end-user private line interconnections have on the U.S. international public switched network.

OMB Control No.: 3060-0768.

Title: 28 GHz Band Segmentation Plan Amending the Commission's Rules to Redesignate the 27.5-29.5 GHz Frequency Bands, to Reallocate the 29.5-30.0 GHz Frequency Band, and to Establish Rules and Policies for Local Multipoint Distribution Services (LMDS) and for the Fixed Satellite Service.

Form No.: N/A.

Type of Review: Extension of a currently approved collection.

Respondents: Business or other for-profit.

Number of Respondents: 15 respondents; 60 responses.

Estimated Time Per Response: 1.5 hours.

Frequency of Response: On occasion and annual reporting requirements, and third party disclosure requirement.

Total Annual Burden: 90 hours.

Total Annual Cost: $24,000.

Privacy Act Impact Assessment: N/A.

Needs and Uses: The various collections of information referenced under this OMB control number are contained in 47 CFR Parts 25 and 101 of the Commission's rules. The Commission uses the information to carry out its duties as set forth in Sections 308 and 309 of the Communications Act of 1934, as amended. Specifically, the Commission and other applicants and/or licensees in the 28 GHz band use the information to determine the technical coordination of systems that are designed to share the same band segment in the 28 GHz frequency band. If this information is compiled less frequently or not filed in conjunction with our rules, applicants and licensees will not obtain the authorization necessary to provide telecommunications services; the Commission will not be able to carry out its mandate as required by statute; and applicants and licensees will not be able to provide service effectively.

OMB Control No.: 3060-1014.

Title: Ku-Band NGSO FSS.

Form No.: N/A.

Type of Review: Extension of a currently approved collection.

Respondents: Business or other for-profit.

Number of Respondents: 5 respondents; 45 responses.

Estimated Time Per Response: 1-4 hours.

Frequency of Response: On occasion, annual, and other reporting requirements.

Total Annual Burden: 140 hours.

Total Annual Cost: $176,000.

Privacy Act Impact Assessment: N/A.

Needs and Uses: The information collection requirements accounted for in this collection are necessary to ensure that prospective licensees in the Non-geostationary (NGSO) FSS follow their service rules. Without such information collection requirements, many existing radio services, both satellite and terrestrial, could potentially be interrupted by interference caused by NGSO FSS systems on the same frequencies.

OMB Control No.: 3060-0882.

Title: Section 95.833, Construction Requirements.

Form No.: N/A.

Type of Review: Extension of a currently approved collection.

Respondents: Business or other for-profit.

Number of Respondents: 1,468.

Estimated Time Per Response: 1 hour.

Frequency of Response: Every 10 year reporting requirement.

Total Annual Burden: 1,468 hours.

Total Annual Cost: N/A.

Privacy Act Impact Assessment: N/A.

Needs and Uses: This rule section is necessary for 218-219 MHz service system licensees to file a report after ten years of license grant to demonstrate that they provide substantial service to its service areas. The information issued by Commission staff to assess compliance with 218-219 MHz service construction requirements, and to provide adequate spectrum for the service. This will facilitate spectrum efficiency and competition by the 218-219 MHz licensees in the wireless marketplace. Without this information, the Commission would not be able to carry out its statutory responsibilities.

OMB Control No.: 3060-0223.

Title: Section 90.129, Supplemental Information to be Routinely Submitted with Applications, Non-Type Accepted Equipment.

Form No.: N/A.

Type of Review: Extension of a currently approved collection.

Respondents: Individuals or households; business or other for-profit, and state, local or tribal government.

Number of Respondents: 100.

Estimated Time Per Response: .33 hours (20 minutes).

Frequency of Response: On occasion reporting requirements.

Total Annual Burden: 33 hours.

Total Annual Cost: N/A.

Privacy Act Impact Assessment: Yes.

Needs and Uses: Section 90.129 requires applicants proposing to use transmitting equipment that is not type-certified by FCC laboratory personnel to provide a description of the proposed equipment. This assures that the equipment is capable of performing within certain tolerances that limit the interference potential of the device. The information collected is used by FCC engineers to determine the interference potential of the proposed equipment.

OMB Control No.: 3060-0204.

Title: Section 90.20(a)(2)(v), Physically Handicapped “Special Eligibility Showing”.

Form No.: N/A.

Type of Review: Extension of a currently approved collection.

Respondents: Business or other for-profit.

Number of Respondents: 20.

Estimated Time Per Response: .084 hours (5 minutes).

Frequency of Response: On occasion reporting requirement.

Total Annual Burden: 1 hour.

Total Annual Cost: N/A.

Privacy Act Impact Assessment: N/A.

Needs and Uses: Section 90.20(a)(2)(v) provides that persons claiming eligibility in the Special Emergency Radio Service on the basis of being physically handicapped must present a physician's statement indicating that they are handicapped. Submission of this information is necessary to ensure that frequencies reserved for licensing to handicapped individuals are not licensed to non-handicapped persons. Commission personnel use the data to determine the eligibility of applicants to hold a radio station authorization for specific frequencies. If the information were not collected, the Commission would have no way to determine eligibility.

OMB Control No.: 3060-0695.

Title: Section 87.219, Automatic Operations.

Form No.: N/A.

Type of Review: Extension of a currently approved collection.

Respondents: Business or other for-profit.

Number of Respondents: 50.

Estimated Time Per Response: 0.7 hours.

Frequency of Response: On occasion reporting requirement, recordkeeping requirement, and third party disclosure requirement.

Total Annual Burden: 35 hours.

Total Annual Cost: N/A.

Privacy Act Impact Assessment: N/A.

Needs and Uses: This rule requires that if airports have control towers or Federal Aviation Administration (FAA) flight service stations, and more than one licensee and wants to have an automated aeronautical advisory station (unicom), they must write an agreement and keep a copy of the agreement with each licensee's station authorization. The information will be used by compliance personnel for enforcement purposes and by licensees to clarify responsibility in operating unicom.

Federal Communications Commission.
Marlene H. Dortch,
Secretary.

[FR Doc. 05-21868 Filed 11-1-05; 8:45 am]

BILLING CODE 6712-01-P